ENVIRONMENTAL PROTECTION AGENCY

[FRL-8690-9]

EPA Science Advisory Board Staff Office; Notification of a Public Teleconference Meeting of the Chartered Science Advisory Board

AGENCY: Environmental Protection Agency (EPA).

ACTION: Notice.

SUMMARY: The EPA Science Advisory Board (SAB) Staff Office announces a public teleconference meeting of the chartered SAB to: (1) Conduct its quality review of the SAB draft report SAB Advisory on the EPA Ecological Research Program Multi-year Plan; (2) have follow-up discussions of EPA's strategic research directions; and (3) complete its discussions of science that supports EPA's disaster response programs.

DATES: The meeting date is Monday, July 28, 2008, from 1 p.m. to 5 p.m. (Eastern Time).

Location: The meeting will be conducted by telephone only.

FOR FURTHER INFORMATION CONTACT: Any member of the public wishing to obtain general information concerning this public teleconference meeting should contact Mr. Thomas O. Miller, Designated Federal Officer (DFO), EPA Science Advisory Board (1400F), 1200 Pennsylvania Ave., NW., Washington, DC 20460; via telephone/voice mail: (202) 343-9982; fax: (202) 233-0643; or e-mail at miller.tom@epa.gov. General information concerning the EPA Science Advisory Board can be found on the SAB Web site at: http://www.epa.gov/sab.

SUPPLEMENTARY INFORMATION: The SAB was established by 42 U.S.C. 4365 to provide independent scientific and technical advice to the Administrator on the technical basis for Agency positions and regulations. The SAB is a Federal advisory committee chartered under the Federal Advisory Committee Act (FACA), as amended, 5 U.S.C., App. The SAB will comply with the provisions of FACA and all appropriate SAB Staff Office procedural policies. Pursuant to the Federal Advisory Committee Act, Public Law 92-463, notice is hereby given that the EPA SAB will hold a public teleconference meeting to discuss several issues and to conduct a quality review of the SAB Panel's draft Advisory on the EPA Ecological Research Program Multi-year Plan.

Background: (a) SAB Quality Review of the Draft SAB Report Advisory on the EPA Ecological Research Program Multi-year Plan. The Chartered Science Advisory Board will conduct a quality review of the draft SAB committee report on EPA's Ecological Research Multi-Year Plan prepared by the SAB's Ecological Processes and Effects Committee (EPEC). The draft report is in response to an EPA Office of Research and Development (ORD) request that the SAB review the Agency's proposed Research Program Strategy and Multi-year Plan that focuses on research issues related to ecosystems and ecosystem services. The draft report is available on the SAB Web Site at: http://yosemite.epa.gov/sab/sabproduct.nsf/0/EE66B20E1A20BBA18525734D005E6665?OpenDocument.

(b) EPA Strategic Research Directions: The Science Advisory Board engaged with EPA in a continuing dialogue to evaluate and provide advice on the strategic directions for EPA's research program for the next five to fifteen years. This activity complements the annual SAB review of EPA's research budget, and permits a more critical evaluation of research programs than is possible during those research budget reviews. The SAB will continue its discussions at its July 28, 2008 meeting. Additional information on past discussions (e.g., October 3-5, 2007 meeting; see 72 FR 50105-50107) and other relevant information can be found on the EPA SAB Web site at: http://yosemite.epa.gov/sab/sabproduct.nsf/36a1ca3f683ae57a85256ce9006a32d0/54b1d2e5f6dbb2b38525730c00624a96!OpenDocument).

(c) Environmental Disasters. The SAB is formulating advice to EPA aimed at strengthening science underlying EPA's preparation for and response to environmental disasters. The SAB previously discussed this topic at its meetings on December 12-14, 2006 (see 71 FR 67566), June 19-20, 2007 (see 72 FR 27308) and October 3-5, 2007 (see 72 FR 50105-50107). The SAB has drafted an advisory to the Administrator as a result of these discussions. Discussions of those comments will be completed during the SAB meeting on July 28, 2008. Additional information about this topic is available on the SAB Web site at: http://yosemite.epa.gov/sab/sabproduct.nsf/02ad90b136fc21ef85256eba00436459/75e560f8a00949fa8525714c00454e95!OpenDocument.

Availability of Meeting Materials: The agenda and other materials in support of this meeting will be placed on the SAB Web site at http://www.epa.gov/sab in advance of this meeting.

Procedures for Providing Public Input: Interested members of the public may submit relevant written or oral information for the SAB to consider during this teleconference.

Oral Statements: In general, individuals or groups requesting time to make an oral presentation at a public SAB teleconference will be limited to three minutes, with no more than one-half hour for all speakers. At face-to-face meetings, presentations will be limited to five minutes, with no more than a total of one hour for all speakers. To be placed on the public speaker list, interested parties should contact Mr. Thomas Miller, DFO, in writing (preferably by e-mail), by July 21, 2008 at the contact information provided above. Written Statements: Written statements should be received in the SAB Staff Office by July 21, 2008, so that the information may be made available to the SAB for their consideration prior to this teleconference meeting. Written statements should be supplied to the DFO via e-mail to miller.tom@epa.gov (acceptable file format: Adobe Acrobat PDF, WordPerfect, MS Word, MS PowerPoint, or Rich Text files in IBM-PC/Windows 98/2000/XP format).

Accessibility: For information on access or services for individuals with disabilities, please contact Mr. Thomas Miller at (202) 343-9982 or miller.tom@epa.gov. To request accommodation of a disability, please contact Mr. Miller, preferably at least 10 days prior to the meeting, to give EPA as much time as possible to process your request.

Dated: July 8, 2008.
Anthony F. Maciorowski,
Deputy Director, EPA Science Advisory Board Staff Office.

[FR Doc. E8-15798 Filed 7-10-08; 8:45 am]

BILLING CODE 6560-50-P